DEPARTMENT OF HEALTH AND HUMAN SERVICES

Health Resources and Services Administration

Countermeasures Injury Compensation Program: Electronic Submissions

AGENCY: Health Resources and Services Administration (HRSA), Department of Health and Human Services.

ACTION: Notice.

SUMMARY: The Public Readiness and Emergency Preparedness Act (PREP Act) authorized the Secretary of Health and Human Services (Secretary) to establish the Countermeasures Injury Compensation Program (CICP or Program). This Program provides benefits to certain persons who sustain serious physical injuries or death as a direct result of administration or use of covered countermeasures identified by the Secretary in declarations issued under the PREP Act. In addition, the Secretary may provide death benefits to certain survivors of individuals who died as the direct result of such covered injuries or their health complications. In accordance with 42 CFR 110.41, the Department of Health and Human Services is issuing this notice to inform the public that the CICP is accepting electronic Request for Benefits package submissions through the Injury Compensation Programs web-based portal. Completed Request for Benefits Forms, Letters of Intent, copies of completed Authorization for Use or Disclosure of Health Information forms, medical records, and any supporting documentation for CICP Request for Benefits packages can be submitted electronically at https://injurycompensation.hrsa.gov.

DATES: This notice is effective immediately.

FOR FURTHER INFORMATION CONTACT: Dr. George Reed Grimes, Director, Division of Injury Compensation Programs, Health Systems Bureau, HRSA, 5600 Fishers Lane, 08-N146B, Rockville, MD 20857. Phone calls can be directed to 1-855-266-2427 (1-855-266-CICP). This is a toll-free number.

SUPPLEMENTARY INFORMATION: Request for Benefits Forms (or Letters of Intent) must be filed within 1 year of the date of the administration or use of the covered countermeasure that is alleged to have caused the injury. The filing date for Request Forms submitted electronically is the date the Request Form is submitted electronically at https://injurycompensation.hrsa.gov. 42 CFR 110.42(c). For Request Forms not submitted electronically, the filing date is still the postmark date. A legibly dated receipt from a commercial carrier, a private courier service, or the U.S. Postal Service will be considered equivalent to a postmark.

In addition to the Request for Benefits Forms, requesters are also required to submit copies of the Authorization for Use or Disclosure of Health Information forms they submitted to their medical providers. Requesters must also arrange to have their providers submit the following medical records:

(1) All medical records documenting medical visits, procedures, consultations, and test results that occurred on or after the date of administration or use of the covered countermeasure; and

(2) All hospital records, including the admission history and physical examination, the discharge summary, all physician subspecialty consultation reports, all physician and nursing progress notes, and all test results that occurred on or after the date of administration or use of the covered countermeasure; and

(3) All medical records for 1 year prior to administration or use of the covered countermeasure as necessary to indicate an injured countermeasure recipient's pre-existing medical history.

To submit documentation online, individuals may navigate to the Injury Compensation Programs website (https://injurycompensation.hrsa.gov) and follow the steps on “How to Create an Account” to create a Login.gov account. Steps to create an account are also directly available here: https://injurycompensation.hrsa.gov/DICPSubmit/Interface/Common/LoginAssistance.

Once an account is created, individuals can submit a new Request for Benefits package or upload additional documents for an existing request.

Alternatively, Request for Benefits Forms, medical records, and any documentation to supplement a Request for Benefits package can continue to be sent by mail to the CICP at the following address: Health Resources and Services Administration, Countermeasures Injury Compensation Program, 5600 Fishers Lane, 08N186B, Rockville, Maryland 20857.

When the CICP receives a Request for Benefits package online or by mail, the CICP will send the requester a letter confirming receipt of the claim, providing them with a case number, and informing them if any additional documentation is required. Additional documentation may be submitted by mail or by uploading the documents electronically, regardless of the initial filing method used. For more information or support, requesters may contact CICP directly by email at cicp@hrsa.gov or by phone at 1-855-266-2427 (1-855-266-CICP).

Diana Espinosa,
Deputy Administrator.

[FR Doc. 2022-13550 Filed 6-23-22; 8:45 am]

BILLING CODE 4165-15-P